FEDERAL COMMUNICATIONS COMMISSION

[AU Docket No. 14-252; GN Docket No. 12-268; DA 16-516]

Wireless Telecommunications Bureau Seeks Comment on Atlantic Tele-Network, Inc., and SAL Spectrum, LLC, Petition for Waiver To Claim Eligibility for a Rural Service Provider Bidding Credit in Auction 1002

AGENCY: Federal Communications Commission.

ACTION: Notice; comment sought.

SUMMARY: The Wireless Telecommunications Bureau seeks comment on petition filed by Atlantic Tele-Network, Inc., and SAL Spectrum, LLC, requesting, to the extent necessary, waiver of the Commission's rules to enable SAL to claim eligibility for a rural service provider bidding credit in its application to participate in Auction 1002.

DATES: Comments are due on or before May 26, 2016, and reply comments are due on or before June 2, 2016.

ADDRESSES: Interested parties may file comments and reply comments on or before the dates indicated on the first page of this document. When filing documents, please reference AU Docket No. 14-252 and GN Docket No. 12-268.

Electronic Filers: Comments may be filed electronically using the Internet by accessing the ECFS: http://fjallfoss.fcc.gov/ecfs2/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9300 East Hampton Drive, Capitol Heights, MD 20743.

U.S. Postal Service first-class, Express, and Priority mail must be addressed to 445 12th St. SW., Washington DC 20554.

People with Disabilities: To request materials in accessible formats (braille, large print, electronic files, audio format), send an email to fcc504@fcc.gov or call the Consumer and Governmental Affairs Bureau at 202-418-0530 (voice), 202-418-0432 (TTY).

FOR FURTHER INFORMATION CONTACT: Wireless Telecommunications Bureau, Auctions and Spectrum Access Division: For further information contact Mark Montano, Mark.Montano@fcc.gov, 202-418-0660.

SUPPLEMENTARY INFORMATION: This is a summary of the Incentive Auction 1002 Rural Service Provider Waiver Petition Comment Public Notice (DA 16-516) in AU Docket No. 14-252 and GN Docket No. 12-268, released on May 11, 2016. The complete text of this document is available for public inspection and copying from 8:00 a.m. to 4:30 p.m. ET Monday through Thursday or from 8:00 a.m. to 11:30 a.m. ET on Fridays in the FCC Reference Information Center, 445 12th Street SW., Room CY-A257, Washington, DC 20554. The complete text is also available on the Commission's Web site at http://wireless.fcc.gov, or by using the search function on the ECFS Web page at http://www.fcc.gov/cgb/ecfs/.

1. On May 3, 2016, Atlantic Tele-Network, Inc. (ATN), and its wholly-owned subsidiary SAL Spectrum, LLC (SAL) (together Petitioners), filed a petition requesting, to the extent necessary, waiver of 47 CFR 1.2110(f)(4) to enable SAL to claim eligibility for a rural service provider bidding credit in its application to participate in Auction 1002, the forward auction portion of the broadcast incentive auction. The Bureau seeks comment on the petition.

2. In its application, SAL seeks a rural service provider bidding credit, which provides an eligible applicant with a 15 percent discount on its winning bid(s). To be eligible, an applicant must, inter alia, be a service provider that together with its controlling interests, affiliates, and the affiliates of its controlling interests, has fewer than 250,000 combined wireless, wireline, broadband, and cable subscribers. Petitioners claim that ATN subsidiaries serve “slightly more than 62,000 wireline, wireless, broadband, and cable subscribers” in the United States, that “ATN's foreign subsidiaries serve more than 250,000 wireline, wireless, broadband, and cable subscribers,” and that “ATN's total worldwide subscriber base is fewer than 500,000.” Petitioners seek a waiver, to the extent necessary, of any requirement that foreign subscribers be considered in determining SAL's qualifications for the bidding credit.

3. Procedural Matters: This proceeding has been designated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with 47 CFR 1.1206(b).

Federal Communications Commission.
Gary D. Michaels,
Deputy Chief, Auctions and Spectrum Access Division, WTB.

[FR Doc. 2016-12278 Filed 5-23-16; 8:45 am]

BILLING CODE 6712-01-P